DELAWARE RIVER BASIN COMMISSION

Notice of Commission Meeting and Public Hearing

Notice is hereby given that the Delaware River Basin Commission (“Commission”) will hold an informal conference followed by a public hearing on Wednesday, January 29, 2003. The hearing will be part of the Commission's regular business meeting. Both the conference session and business meeting are open to the public and will be held at the Commission offices at 25 State Police Drive, West Trenton, New Jersey.

The conference among the Commissioners and staff will begin at 9:30 a.m. Topics of discussion include: a progress report on development of the Commission's new comprehensive plan; a progress report on the Tri-State Water Management Plan; a status report on the PCB TMDL for the Delaware Estuary; an opportunity for stakeholder comment on the structure and mandate of the TMDL Implementation Advisory Committee; a report on the activities of the Flow Management Technical Advisory Committee; a discussion regarding the Commission's fee structure for project review under Section 3.8 of the Delaware River Basin Compact; and a presentation on stormwater management approaches in Chester County.

The subjects of the public hearing to be held during the 1 p.m. business meeting include, in addition to the dockets listed below, a resolution approving the Commission's budgets for the fiscal year ending June 30, 2004.

1. Merrill Creek Owners Group D-77-110 CP (Amendment 15). A resolution to amend Table A (Revised) of Docket D-77-110 CP (Amendment 14) to include the addition of the PPL Corporation, PPL Global, LLC and Lower Mount Bethel Energy, LLC facility in Lower Mount Bethel Township, Northampton County, Pennsylvania as a “Designated Unit.” The power facility is a 600 megawatt independent power project approved via Docket D-99-54 on March 7, 2000. The project is subject to curtailment unless its consumptive water use during DRBC lower basin drought conditions can be made up by releases from storage. The Merrill Creek reservoir will provide the storage and is located in Harmony Township, Warren County, New Jersey.

2. Covanta Warren Energy Resource Co., L.P. D-85-90 RENEWAL. A renewal of a ground water withdrawal project to continue an allocation of 17 million gallons (mg)/30 days for existing Wells Nos. 1 and 2 in the Leithsville Formation. The purpose of the withdrawal is provision of industrial cooling, process and potable/sanitary water to the applicant's solid waste disposal/power generation facility. The project is located in White Township, Warren County, New Jersey.

3. Peronic Enterprises D-89-80 RENEWAL. A ground water withdrawal project to supply up to 8 million gallons per day (mgd) of water to the applicant's Gambler Ridge Golf Club irrigation system from Wells Nos. 1 and 2 in the Mt. Laurel and Englishtown Formations, and Ponds Nos. 1 and 2 in the Red Bank Formation. The applicant requests that the total withdrawal from all wells remain limited to 8 mg/30 days. The project is located in Upper Freehold Township, Monmouth County, New Jersey.

4. Berks-Montgomery Municipal Authority D-2001-10 CP. A project to expand the applicant's existing Swamp Creek sewage treatment plant (STP) from 1.9 mgd to 2.3 mgd. The plant will continue to provide tertiary treatment to serve portions of Boyerstown and Bechtelsville Boroughs; and portions of Colebrookdale and Washington Townships, all in Berks County; plus a portion of Douglass Township in Montgomery County; all in Pennsylvania. Treated effluent will continue to discharge to Swamp Creek in the Perkiomen Creek Watershed in Douglass Township, Montgomery County, Pennsylvania.

5. Lower Makefield Township D-2002-48 CP. A ground water withdrawal project to supply up to 8.64 mg/30 days of water to the applicant's golf course irrigation system from new Wells Nos. PW-1 and PW-2 in the Stockton and Lockatong Formations. The project is located in the Delaware River Watershed in Lower Makefield Township, Bucks County, Pennsylvania.

In addition to the public hearing items, the Commission will address the following at its 1 p.m. business meeting: Minutes of the November 25, 2002 business meeting; announcements; a report on Basin hydrologic conditions; a report by the executive director; a report by the Commission's general counsel; a resolution authorizing the executive director to receive and expend funds from the City and State of New York for the purpose of engaging a consultant to perform OASIS flow model analyses; and a resolution replacing a departing member of the expert panel that is advising the Commission on development of a hydrodynamic and water quality model for the Delaware Estuary.

Draft dockets scheduled for public hearing on January 29, 2003 are posted on the Commission's Web site, http://www.drbc.net, where they can be accessed through the Notice of Commission Meeting and Public Hearing. Documents relating to the dockets and other items may be examined at the Commission's offices. Please contact Thomas L. Brand at 609-883-9500 ext. 221 with any docket-related questions.

Persons wishing to testify at this hearing are requested to register in advance with the Commission Secretary at 609-883-9500 ext. 203. Individuals in need of an accommodation as provided for in the Americans With Disabilities Act who wish to attend the hearing should contact the Commission Secretary directly at 609-883-9500 ext. 203 or through the Telecommunications Relay Services (TRS) at 711, to discuss how the Commission may accommodate your needs.

Dated: January 10, 2003.
Pamela M. Bush,
Commission Secretary.

[FR Doc. 03-940 Filed 1-15-03; 8:45 am]

BILLING CODE 6360-01-P